DEPARTMENT OF THE INTERIOR

Bureau of Land Management

[LLWO220000.L10200000.PK0000; OMB Control Number 1004-0041]

Agency Information Collection Activities; Submission to the Office of Management and Budget for Review and Approval; Authorizing Grazing Use

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before November 17, 2017.

ADDRESSES: Send written comments on this information collection request (ICR) to the Office of Management and Budget's Desk Officer for the Department of the Interior by email at OIRA_Submission@omb.eop.gov, or via facsimile to (202) 395-5806. Please provide a copy of your comments to the BLM at U.S. Department of the Interior, Bureau of Land Management, 1849 C Street NW., Room 2134LM, Washington, DC 20240, Attention: Jean Sonneman; or by email to jesonnem@blm.gov. Please reference OMB Control Number 1004-0041 in the subject line of your comments.

FOR FURTHER INFORMATION CONTACT: To request additional information about this ICR, contact Maggie Marston by email at mmarston@blm.gov, or by telephone at 202-912-7444. You may also view the ICR at http://www.reginfo.gov/public/do/PRAMain.

SUPPLEMENTARY INFORMATION: In accordance with the Paperwork Reduction Act of 1995, the BLM provides the general public and other Federal agencies with an opportunity to comment on new, proposed, revised, and continuing collections of information. This helps us assess the impact of our information collection requirements and minimize the public's reporting burden. It also helps the public understand our information collection requirements and provide the requested data in the desired format.

A Federal Register Notice with a 60-day public comment period soliciting comments on this collection of information was published on April 12, 2017 (82 FR 17863). The BLM received one comment. The comment did not address this collection of information. Therefore, the BLM did not change the collection in response to the comment.

We are again soliciting comments on the proposed ICR that is described below. We are especially interested in public comments addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this Notice are a matter of public record. Before including your address, phone number, email address, or other personal identifying information in your comment, you should be aware that your entire comment—including your personal identifying information—may be made publicly available at any time. While you can ask us in your comment to withhold your personal identifying information from public review, we cannot guarantee that we will be able to do so.

Abstract: The BLM is required by the Taylor Grazing Act (43 U.S.C. 315-315r) and Subchapter IV of the Federal Land Policy and Management Act (43 U.S.C. 1751-1753) to manage domestic livestock grazing on public lands consistent with land use plans, principles of multiple use and sustained yield, and other relevant factors. Compliance with these statutory provisions necessitates collection of information on matters such as permittee and lessee qualifications for a grazing permit or lease, base property used in conjunction with public lands, and the actual use of public lands for domestic livestock grazing. Most permits and leases are in effect for 10 years and are renewable if the BLM determines that the terms and conditions of the expiring permit or lease are being met.

Title of Collection: Authorizing Grazing Use.

OMB Control Number: 1004-0041.

Form Numbers: 4130-1, 4130-1a, 4130-1b, 4130-3a, 4130-4, 4130-5.

Type of Review: Extension of currently approved collection.

Respondents/Affected Public: Any U.S. citizen or validly licensed business may apply for a BLM grazing permit or lease. The BLM administers nearly 18,000 permits and leases for grazing domestic livestock, at least part of the year on public lands.

Total Estimated Number of Annual Respondents: 15,000.

Total Estimated Number of Annual Responses: 33,810.

Estimated Completion Time per Response: Varies from 10 to 35 minutes, depending on the activity.

Total Estimated Number of Annual Burden Hours: 7,811.

Respondent's Obligation: Required to obtain or retain a benefit.

Frequency of Collection: The BLM collects the information on Forms 4130-1, 4130-1a, 4130-1b, and 4130-4 on occasion. The BLM collects the information on Forms 4130-3a and 4130-5 annually.

Total Estimated Annual Nonhour Burden Cost: $30,000.

An agency may not conduct or sponsor and a person is not required to respond to a collection of information unless it displays a currently valid OMB control number. The authority for this action is the Paperwork Reduction Act of 1995 (44 U.S.C. 3501 et seq).

Mark Purdy,
Management Analyst, Bureau of Land Management.

[FR Doc. 2017-22615 Filed 10-17-17; 8:45 am]

BILLING CODE 4310-84-P